DEPARTMENT OF LABOR

Employment and Training Administration

[TA-W-60,327]

Production Products, Bonne Terre, MO; Notice of Termination of Investigation

Pursuant to Section 221 of the Trade Act of 1974, as amended, an investigation was initiated on October 30, 2006 in response to a petition filed on behalf of workers at Production Products, Bonne Terre, Missouri.

The petitioner is not an authorized representative and is not an official of the company. Consequently, further investigation in this case would serve no purpose, and the investigation has been terminated.

Signed at Washington, DC, this 3rd day of November, 2006.
Linda G. Poole,
Certifying Officer, Division of Trade Adjustment Assistance.

[FR Doc. E6-19342 Filed 11-15-06; 8:45 am]

BILLING CODE 4510-30-P